DEPARTMENT OF TRANSPORTATION

Federal Highway Administration

Environmental Impact Statement: Alexander, Pulaski, and Union Counties, Illinois

AGENCY: Federal Highway Administration (FHWA), DOT.

ACTION: Notice to rescind a Notice of Intent to prepare an Environmental Impact Statement.

SUMMARY: The FHWA is issuing this notice to advise the public that an environmental impact statement will not be prepared for a proposed transportation project in Alexander, Pulaski, and Union Counties, Illinois between the intersection of Illinois Route 3 with Illinois Route 146 and Interstate 57.

FOR FURTHER INFORMATION CONTACT: Catherine A. Batey, Division Administrator, Federal Highway Administration, 3250 Executive Park Drive, Springfield, Illinois 62703, Phone: (217) 492-4600. Jeffrey L. Keirn, Deputy Director of Highways, Region 5 Engineer, Illinois Department of Transportation, 1102 Eastport Plaza Drive, Collinsville, Illinois 62234, Phone: (618) 346-3110.

SUPPLEMENTARY INFORMATION: The FHWA, in cooperation with the Illinois Department of Transportation, issued a notice of intent to prepare an environmental impact statement (EIS) in 2015 (80 FR 73871, November 25, 2015). The project proposal was to improve transportation between the identified project termini.

The project is being cancelled and no further activities will occur for the Shawnee Parkway project at this time.

Comments or questions concerning this notice should be directed to FHWA or the Illinois Department of Transportation at the addresses provided above.

Authority: 23 U.S.C. 315; 23 CFR 771.123; 49 CFR 1.48

(Catalog of Federal Domestic Assistance Program Number 20.205, Highway Research, Planning and Construction. The regulations implementing Executive Order 12372 regarding intergovernmental consultation on Federal programs and activities apply to this program.)

Issued on: March 9, 2018.
Catherine A. Batey,
Division Administrator, Springfield, Illinois.

[FR Doc. 2018-06329 Filed 3-28-18; 8:45 am]

BILLING CODE 4910-22-P